ENVIRONMENTAL PROTECTION AGENCY

[FRL-10009-68-Region 8]

Public Water System Supervision Program Revision for the State of Montana

AGENCY: Environmental Protection Agency (EPA).

ACTION: Notice.

SUMMARY: Public notice is hereby given that the state of Montana has revised its Public Water System Supervision (PWSS) Program by establishing Administrative Penalty Authority that applies to its drinking water program. The EPA has reviewed Montana's submittal, and determined that the Administrative Penalty Authority is no less stringent than the federal regulations. The EPA is proposing to approve the Administrative Penalty Authority requirements for Montana.

This approval action does not extend to public water systems in Indian country. Please see SUPPLEMENTARY INFORMATION, Unit B.

DATES: All interested parties may request a public hearing on this determination by June 25, 2020. Please see SUPPLEMENTARY INFORMATION, Unit C, for details. Should no timely and appropriate request for a hearing be received, and the Regional Administrator (RA) does not elect to hold a hearing on his/her own motion, this determination shall become applicable June 25, 2020 and no further public notice will be issued.

ADDRESSES: Requests for a public hearing should be submitted to: Robert Clement by email at clement.robert@epa.gov or by phone (303)-312-6653.

FOR FURTHER INFORMATION CONTACT: Robert Clement, Drinking Water B Section, EPA Region 8, Denver, Colorado by email at clement.robert@epa.gov or by phone (303) 312-6653.

SUPPLEMENTARY INFORMATION: In accordance with the provisions of section 1413 of the Safe Drinking Water Act (SDWA), 42 U.S.C. 300g-2, and 40 CFR 142.13, public notice is hereby given that the state of Montana has revised its PWSS program by adopting federal regulations for the Penalty Authority Rule that correspond to the NPDWR in 40 CFR parts 141 and 142. The EPA has reviewed Montana's regulations and determined they are no less stringent than the federal regulations. The EPA is proposing to approve Montana's primacy revision for the Penalty Authority Rule. This approval action does not extend to public water systems in Indian country as defined in 18 U.S.C. 1151. Please see SUPPLEMENTARY INFORMATION, Unit B.

A. Why are revisions to State programs necessary?

States with primary PWSS enforcement authority must comply with the requirements of 40 CFR part 142 to maintain primacy. They must adopt regulations that are at least as stringent as the NPDWRs at 40 CFR parts 141 and 142, as well as adopt all new and revised NPDWRs in order to retain primacy (40 CFR 142.12(a)).

B. How does this action affect Indian country (18 U.S.C. 1151) in Montana?

The EPA's approval of Montana's revised PWSS program does not extend to Indian country as defined in 18 U.S.C. 1151. Indian country in Montana generally includes (1) lands within the exterior boundaries of the following Indian reservations located within Montana: The Crow Indian Reservation, the Blackfeet Indian Reservation, the Flathead Reservation, the Fort Belknap Reservation, the Fort Peck Indian Reservation, the Northern Cheyenne Indian Reservation, and the Rocky Boy's Reservation; (2) any land held in trust by the United States for an Indian tribe; and (3) any other areas which are “Indian country” within the meaning of 18 U.S.C. 1151. EPA or eligible Indian tribes, as appropriate, will retain PWSS program responsibilities over public water systems in Indian country.

C. Requesting a Hearing

Any interested party may request a hearing on this determination within thirty (30) days of this notice. All requests shall include the following information: Name, address, and telephone number of the individual, organization, or other entity requesting a hearing; a brief statement of interest and information to be submitted at the hearing; and the signature of the interested individual or responsible official, if made on behalf of an organization or other entity. Frivolous or insubstantial requests for a hearing may be denied by the RA.

Notice of any hearing shall be given not less than fifteen (15) days prior to the time scheduled for the hearing and will be made by the RA in the Federal Register and in a newspaper of general circulation in the state. A notice will also be sent to both the person(s) requesting the hearing and the state. The hearing notice will include a statement of purpose of the hearing, information regarding time and location for the hearing, and the address and telephone number where interested persons may obtain further information. The RA will issue an order affirming or rescinding the determination upon review of the hearing record. Please bring this notice to the attention of any persons known by you to have an interest in this determination.

Dated: May 15, 2020.
Gregory Sopkin,
Regional Administrator, Region 8.

[FR Doc. 2020-11162 Filed 5-22-20; 8:45 am]

BILLING CODE 6560-50-P